NATIONAL SCIENCE FOUNDATION

Biological Sciences Advisory Committee; Notice of Meeting

In accordance with the Federal Advisory Committee Act (Pub. L. 92-463, as amended), the National Science Foundation announces the following meeting:

Name: Biological Sciences Advisory Committee (#1110).

Date and Time: September 5, 2012, 8:30 a.m.-5 p.m.; September 6, 2012, 8:30 a.m.-12 p.m.

Place: National Science Foundation, 4201 Wilson Blvd., Room 1235, Arlington, VA 22230.

All visitors must contact the Directorate for Biological Sciences [call 703-292-8400 or send an email message to erchiang@nsf.gov] at least 24 hours prior to the meeting to arrange for a visitor's badge. All visitors must report to the NSF visitor desk located in the lobby at the N. 9th and N. Stuart Streets entrance on the day of the meeting to receive a visitor's badge.

Type of Meeting: OPEN.

Contact Person: Chuck Liarakos, National Science Foundation, 4201 Wilson Boulevard, Room 605, Arlington, VA 22230 Tel No.: (703) 292-8400.

Purpose of Meeting: The Advisory Committee for the Directorate for Biological Sciences provides advice, recommendations, and oversight concerning major program emphases, directions, and goals for the research-related activities of the divisions that make up BIO.

Agenda: Agenda items will include the Division of Environmental Biology Committee of Visitors report, preliminary reports from the sub-committee on biological data and the sub-committee on broadening participation in the biological sciences, and other matters relevant to the Directorate for Biological Sciences.

Dated: August 14, 2012.
Susanne Bolton,
Committee Management Officer.

[FR Doc. 2012-20289 Filed 8-17-12; 8:45 am]

BILLING CODE 7555-01-P